DEPARTMENT OF ENERGY

Federal Energy Regulatory Commission

Combined Notice of Filings #1

Take notice that the Commission received the following exempt wholesale generator filings:

Docket Numbers: EG22-113-000.

Applicants: Vansycle II Wind, LLC.

Description: Vansycle II Wind, LLC submits Notice of Self-Certification of Exempt Wholesale Generator Status.

Filed Date: 5/5/22.

Accession Number: 20220505-5192.

Comment Date: 5 p.m. ET 5/26/22.

Take notice that the Commission received the following electric rate filings:

Docket Numbers: ER20-2429-005.

Applicants: ISO New England Inc., Central Maine Power Company.

Description: Compliance filing: ISO New England Inc. submits tariff filing per 35: CMP; Supplement to Compliance Filing to Comply with Order No. 864 to be effective 1/27/2020.

Filed Date: 5/6/22.

Accession Number: 20220506-5125.

Comment Date: 5 p.m. ET 5/27/22.

Docket Numbers: ER22-680-002.

Applicants: Southern California Edison Company.

Description: Tariff Amendment: Response to Deficiency Letter—Revised WDAT Enhancements 2021 to be effective 7/6/2022.

Filed Date: 5/6/22.

Accession Number: 20220506-5081.

Comment Date: 5 p.m. ET 5/27/22.

Docket Numbers: ER22-1014-001.

Applicants: Power Authority of the State of New York, New York Independent System Operator, Inc.

Description: Tariff Amendment: Power Authority of the State of New York submits tariff filing per 35.17(b): Deficiency Response re: NYPA Formula Rate to be effective 7/6/2022.

Filed Date: 5/6/22.

Accession Number: 20220506-5073.

Comment Date: 5 p.m. ET 5/27/22.

Docket Numbers: ER22-1241-000.

Applicants: REV Energy Marketing, LLC.

Description: Supplement to March 10, 2022 REV Energy Marketing, LLC tariff filing.

Filed Date: 5/5/22.

Accession Number: 20220505-5195.

Comment Date: 5 p.m. ET 5/16/22.

Docket Numbers: ER22-1324-000.

Applicants: LeConte Energy Storage, LLC.

Description: LeConte Energy Storage, LLC submits Supplement to Application for Market-Based Rate Authorization and Request for Shortened Comment Period.

Filed Date: 5/5/22.

Accession Number: 20220505-5191.

Comment Date: 5 p.m. ET 5/16/22.

Docket Numbers: ER22-1801-000.

Applicants: NorthWestern Corporation.

Description: Tariff Amendment: Cancellation of SA 905: Agreement With GCC Three Forks LLC to be effective 5/7/2022.

Filed Date: 5/5/22.

Accession Number: 20220505-5180.

Comment Date: 5 p.m. ET 5/26/22.

Docket Numbers: ER22-1802-000.

Applicants: PJM Interconnection, L.L.C.

Description: § 205(d) Rate Filing: Original ISA, Service Agreement No. 6431; Queue No. AE1-243 to be effective 4/6/2022.

Filed Date: 5/6/22.

Accession Number: 20220506-5023.

Comment Date: 5 p.m. ET 5/27/22.

Docket Numbers: ER22-1803-000.

Applicants: Midcontinent Independent System Operator, Inc.

Description: § 205(d) Rate Filing: 2022-05-06_SA 3365 METC-Calhoun Solar Energy 2nd Rev GIA (J758) to be effective 5/3/2022.

Filed Date: 5/6/22.

Accession Number: 20220506-5030.

Comment Date: 5 p.m. ET 5/27/22.

Docket Numbers: ER22-1804-000.

Applicants: Yaphank Fuel Cell Park, LLC.

Description: Baseline eTariff Filing: Baseline new to be effective 7/6/2022.

Filed Date: 5/6/22.

Accession Number: 20220506-5041.

Comment Date: 5 p.m. ET 5/27/22.

Docket Numbers: ER22-1805-000.

Applicants: Florida Power & Light Company.

Description: Baseline eTariff Filing: Transfer eTariff Records from Gulf DB to FPL DB-CBT and TFCAT Migration to be effective 5/7/2022.

Filed Date: 5/6/22.

Accession Number: 20220506-5044.

Comment Date: 5 p.m. ET 5/27/22.

Docket Numbers: ER22-1806-000.

Applicants: Gulf Power Company.

Description: Tariff Amendment: Filing to Transfer eTariff Records and Notice of Cancellation to be effective 5/7/2022.

Filed Date: 5/6/22.

Accession Number: 20220506-5045.

Comment Date: 5 p.m. ET 5/27/22.

Docket Numbers: ER22-1808-000.

Applicants: Panther Creek Power Operating, LLC.

Description: Compliance filing: Panther Creek Power Operating, LLC Reactive Power Tariff—Clone to be effective 5/6/2022.

Filed Date: 5/6/22.

Accession Number: 20220506-5123.

Comment Date: 5 p.m. ET 5/27/22.

Docket Numbers: ER22-1809-000.

Applicants: Wisconsin Power and Light Company.

Description: Initial rate filing: WPL-Kossuth Cty Wind SFA for Interconnection Service to be effective 5/7/2022.

Filed Date: 5/6/22.

Accession Number: 20220506-5164.

Comment Date: 5 p.m. ET 5/27/22.

Docket Numbers: ER22-1810-000.

Applicants: PJM Interconnection, L.L.C.

Description: § 205(d) Rate Filing: Amendment to WMPA, SA No. 6367; Queue No. AF2-250 to be effective 1/26/2022.

Filed Date: 5/6/22.

Accession Number: 20220506-5170.

Comment Date: 5 p.m. ET 5/27/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2022.
Kimberly D. Bose,
Secretary.

[FR Doc. 2022-10200 Filed 5-11-22; 8:45 am]

BILLING CODE 6717-01-P